Proclamation 10564 of April 28, 2023

National Physical Fitness and Sports Month, 2023

By the President of the United States of America

A Proclamation

Forty years ago, our Nation observed its first National Physical Fitness and Sports Month to promote the benefits of exercising and leading a healthy lifestyle. Since then, we have learned more about how physical activity can improve mental health, reduce the risk of disease, and foster social connection. This month, we recommit to making fitness accessible in every community and encourage all Americans to adopt healthy habits that strengthen our bodies and minds and increase the prospect of a long and healthy life.

Studies show that regular exercise can have a dramatic impact on our health, lowering the likelihood of heart disease, stroke, type 2 diabetes, and some types of cancer. It also improves memory and sleep, increases our ability to focus, and reduces symptoms of depression and anxiety. This is particularly important for people most affected by diet-related diseases, including communities of color, people living in rural areas and territories, people with disabilities, older adults, LGBTQI+ people, military families, and veterans. For young people, sports can also be a great way to build leadership skills, learn teamwork, forge friendships, and foster mental health.

But too often, obstacles prevent Americans from getting the exercise they need. Less than half of Americans live within a half-mile of a park. Adults who work multiple jobs or take care of family members have less time to pursue an active lifestyle. Low-income families typically have less access to safe streets and playgrounds. Youth sports leagues can be unaffordable, leaving students with few fitness options if their school cuts back on physical education.

No one's health should suffer because exercise opportunities are too expensive or because outdoor spaces are too far away. That is why I released a National Strategy on Hunger, Nutrition, and Health to make America a stronger, healthier Nation. I am also working with the Congress to make outdoor spaces more accessible by increasing the number of parks around our country and expanding opportunities for people to travel to national parks and other public lands. We have partnered with State, local, Tribal, and territorial governments to improve community access to parks and spaces within our communities where people can be physically active. And to encourage a healthy lifestyle for our Nation's kids, my Administration has been working with summer schools and after-school programs to expand physical education opportunities. We've also invested $800 million into communities across the country to help redesign roads and make sidewalks and crosswalks safer for people to walk, bike, and roll. My Administration has also partnered with business, civic, academic, and philanthropic leaders who have committed billions of dollars to take on projects like improving physical education curricula and taking children on trips to national parks.

But we must do more. That is why I launched the White House Challenge to End Hunger and Build Healthy Communities. This initiative encourages all sectors of society to make bold and impactful commitments to offer Americans more opportunities to be physically active in their schools and communities. I also recently announced my upcoming appointments to the President's Council on Sports, Fitness, and Nutrition, which promotes access to healthy foods and physical activity for all Americans. Those appointees include prominent athletes, anti-hunger and nutrition advocates, health care professionals, and other leaders.

In addition, my Administration continues to support the Centers for Disease Control and Prevention's “Active People, Healthy Nation” initiative, which provides local governments, schools, and community organizations with a blueprint to help 27 million Americans become more physically active by 2027. We are also supporting the Department of Health and Human Services' “Move Your Way” campaign, which informs Americans about the newest guidance on staying healthy through physical activity.

This month, I encourage all Americans to find ways to be active, whether it is taking a walk or hike, joining a gym, trying a new fitness class, signing up for a local sports team, or registering for a community race. I also call on State, local, Tribal, and territorial governments, as well as business leaders, to make physical activity more accessible to all. When we invest in our health, we foster healthy homes, more productive communities, and a more resilient society for generations to come.

NOW, THEREFORE, I, JOSEPH R. BIDEN JR., President of the United States of America, by virtue of the authority vested in me by the Constitution and the laws of the United States, do hereby proclaim May 2023 as National Physical Fitness and Sports Month. I call upon the people of the United States to make daily physical activity a priority, to support efforts to increase access to sports opportunities in their communities, and to pursue physical fitness as an essential part of healthy living.

IN WITNESS WHEREOF, I have hereunto set my hand this twenty-eighth day of April, in the year of our Lord two thousand twenty-three, and of the Independence of the United States of America the two hundred and forty-seventh.

[FR Doc. 2023-09536

Filed 5-2-23; 8:45 am]

Billing code 3395-F3-P